DEPARTMENT OF JUSTICE

Office of Justice Programs

[OMB Number 1121-0021]

Agency Information Collection Activities: Proposed Collection; Comments Requested: Accounting System and Financial Capability Questionnaire

ACTION: 30-Day Notice of Information Collection Under Review.

The Department of Justice (DOJ), Office of Justice Programs, Office of the Chief Financial Officer, will be submitting the following information collection request to the Office of Management and Budget (OMB) for review and approval in accordance with the Paperwork Reduction Act of 1995. The proposed information collection is published to obtain comments from the public and affected agencies. This proposed information collection was previously published in the Federal Register Volume 77, Number 117, page 36294, on June 18, 2012, allowing for a 60 day comment period.

The purpose of this notice is to allow for an additional 30 days for public comment until September 21, 2012. This process is conducted in accordance with 5 CFR 1320.10.

If you have comments especially on the estimated public burden or associated response time, suggestions, or need a copy of the proposed information collection instrument with instructions or additional information, please contact Leigh Benda, Chief Financial Officer, The Office of the Chief Financial Officer, Office of Justice Programs, U.S. Department of Justice, 810 7th Street NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension, without change of a currently approved collection.

(2) Title of the Form/Collection: Accounting System and Financial Capability Questionnaire.

(3) Agency form number 7120/1. Component Sponsoring Collection: The Office of the Chief Financial Officer, Office of Justice Programs, U.S. Department of Justice.

(4) Affected public who will be asked or required to respond, as well as a brief Abstract. Primary: Business or other for-profit entities and not-for-profit institutions. Other: None. The information is required for assessing the financial risk of a potential recipient in administrating federal funds in accordance with OMB Circular A-110 and 28 CFR part 70.

(5) An estimate of the total number of respondents and the amount of time estimated for an average respondent to respond/reply: Total of 100 respondents estimated at 4 hours each.

(6) An estimate of the total public burden (in hours) associated with the collection: The estimated total public burden associated with this information is 400 hours.

If additional information is required contact: Jerri Murray, Department Clearance Officer, United States Department of Justice, Justice Management Division, Policy and Planning Staff, Two Constitution Square, 145 N Street NE., Room 2E-508, Washington, DC 20530.

Dated: August 14, 2012.
Jerri Murray,
Department Clearance Officer, U.S. Department of Justice.

[FR Doc. 2012-20563 Filed 8-21-12; 8:45 am]

BILLING CODE 4410-18-P